DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Mexico Shrimp Fishery Electronic Logbook.

OMB Control Number: 0648-0543.

Form Number(s): None.

Type of Request: Regular (extension of a currently approved information collection).

Number of Respondents: 1,441.

Average Hours per Response: 3 hours.

Burden Hours: 4,323.

Needs and Uses: This request is for extension of a currently approved information collection.

The National Marine Fisheries Service (NMFS) manages the shrimp fishery in federal waters of the Gulf of Mexico (Gulf) under the Shrimp Fishery Management Plan (FMP). Regulations implementing the FMP require owners and operators (permit holders) of federally permitted shrimp vessels, if selected by NMFS, to carry an electronic logbook (ELB) on their vessel and participate in the NMFS-sponsored electronic logbook reporting program. ELBs provide a more precise means of estimating fishing effort than paper logbooks. Using ELBs to estimate fishing effort serves an important role to help estimate bycatch across the Gulf shrimp fleet.

Affected Public: Business or other for-profit organizations.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 15, 2016.
Sarah Brabson,
NOAA PRA Clearance Officer.

[FR Doc. 2016-31134 Filed 12-23-16; 8:45 am]

BILLING CODE 3510-22-P